DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Year 2000 Community Health Center and National Health Service Corps User/Visit Survey (OMB No. 0915-0185)—Reinstatement, With Change

The purpose of this study is to conduct a sample survey which has three components: (1) A pilot study, including an evaluation of both retrospective and prospective sampling methodologies; (2) a personal interview survey of Community Health Center (CHC) and National Health Service Corps (NHSC) site users; and (3) a record-based study of visits to CHCs and NHSC sites. CHCs and NHSC sites serve predominantly poor minority medically underserved populations. The proposed user and visit survey will collect in-depth information about CHC and NHSC site users, their health status, the reasons they seek care, their diagnoses, and the services utilized in a medical encounter.

The Year 2000 User/Visit Survey was developed using similar questionnaire methodology from the 1995 User/Visit Survey in conjunction with a contractor and will allow longitudinal comparisons for CHCs with the 1995 version of the survey data, including monitoring of process outcomes over time. The Year 2000 User/Visit Survey is the first year that NHSC non-grantee, freestanding sites will be surveyed.

The estimated response burden for the pilot test is as follows:

Form | Number of respondents | Responses per respondent | Total respondents | Hours per response | Total burden hours
Site Induction | 10 (sites) | 1 | 10 | 1 | 10
Site Sampling Methods: Retrospective & Prospective | 10 (sites) | 1 | 10 | 1.5 | 15
User Survey Tracing Procedures | 20 users at 10 sites | 1 | 200 | .5 | 100
User Survey | 3 users at 10 sites | 1 | 30 | 2.25 | 67.5
Visit Survey | 10 (sites) | 30 | 300 | .5 | 150
Total | 260 |  | 550 |  | 342.5

Written comments and recommendations concerning the proposed information collection should be sent within 30 days of this notice to: John Morrall, Human Resources and Housing Branch, Office of Management and Budget, New Executive Office Building, Room 10235, Washington, DC 20503.

Dated: November 13, 2000.
Jane M. Harrison,
Director, Division of Policy Review and Coordination.

[FR Doc. 00-29539 Filed 11-17-00; 8:45 am]

BILLING CODE 4160-15-U